DEPARTMENT OF ENERGY

Federal Energy Regulatory Commission

Combined Notice of Filings #1

Take notice that the Commission received the following exempt wholesale generator filings:

Docket Numbers: EG22-21-000.

Applicants: Black Bear Alabama Solar Tenant, LLC.

Description: Notice of Self-Certification of Exempt Wholesale Generator Status of Black Bear Alabama Solar Tenant, LLC.

Filed Date: 11/5/21.

Accession Number: 20211105-5109.

Comment Date: 5 p.m. ET 11/26/21.

Take notice that the Commission received the following electric rate filings:

Docket Numbers: ER20-716-006.

Applicants: LS Power Grid New York Corporation I, New York Independent System Operator, Inc.

Description: Compliance filing: LS Power Grid New York Corporation I submits tariff filing per 35: LS Power Errata: correct references in Formula Rate Implementation Protocols to be effective 5/27/2020.

Filed Date: 11/5/21.

Accession Number: 20211105-5119.

Comment Date: 5 p.m. ET 11/26/21.

Docket Numbers: ER21-2082-001.

Applicants: Citizens S-Line Transmission LLC.

Description: Tariff Amendment: Response to Deficiency Letter in Docket ER21-2082 to be effective 12/31/9998.

Filed Date: 11/5/21.

Accession Number: 20211105-5183.

Comment Date: 5 p.m. ET 11/26/21.

Docket Numbers: ER21-2305-003.

Applicants: Pacific Gas and Electric Company.

Description: Compliance filing: TO20 Standby Settlement Compliance Filing to be effective 8/1/2021.

Filed Date: 11/4/21.

Accession Number: 20211104-5178.

Comment Date: 5 p.m. ET 11/26/21.

Docket Numbers: ER21-2980-001.

Applicants: Pacific Gas and Electric Company.

Description: Tariff Amendment: Errata to 2022 Balancing Accounts Update Filing to be effective 1/1/2022.

Filed Date: 11/5/21.

Accession Number: 20211105-5179.

Comment Date: 5 p.m. ET 11/15/21.

Docket Numbers: ER22-343-000.

Applicants: PJM Interconnection, L.L.C.

Description: § 205(d) Rate Filing: Amendment to ISA No. 5986; Queue No. AE2-254 to be effective 2/19/2021.

Filed Date: 11/5/21.

Accession Number: 20211105-5031.

Comment Date: 5 p.m. ET 11/26/21.

Docket Numbers: ER22-344-000.

Applicants: PJM Interconnection, L.L.C.

Description: § 205(d) Rate Filing: Amendment to ISA No. 5499; Queue No. AC1-105 to be effective 10/14/2019.

Filed Date: 11/5/21.

Accession Number: 20211105-5058.

Comment Date: 5 p.m. ET 11/26/21.

Docket Numbers: ER22-345-000.

Applicants: NorthWestern Corporation.

Description: Tariff Amendment: Cancellation of RS 42-SD—EP&C Agreement with East River (A-Tap) to be effective 11/6/2021.

Filed Date: 11/5/21.

Accession Number: 20211105-5085.

Comment Date: 5 p.m. ET 11/26/21.

Docket Numbers: ER22-346-000.

Applicants: NorthWestern Corporation.

Description: Tariff Amendment: Cancellation of RS 43-SD—EP&C Agreement with East River (Napa Junction) to be effective 11/6/2021.

Filed Date: 11/5/21.

Accession Number: 20211105-5088.

Comment Date: 5 p.m. ET 11/26/21.

Docket Numbers: ER22-347-000.

Applicants: Southern California Edison Company.

Description: Tariff Amendment: First Amendment LGIA 99MT 8me, LLC SA No. 199 & Termination of eTariff Record to be effective 1/5/2022.

Filed Date: 11/5/21.

Accession Number: 20211105-5118.

Comment Date: 5 p.m. ET 11/26/21.

Docket Numbers: ER22-348-000.

Applicants: Southwestern Public Service Company.

Description: Tariff Amendment: WTMPA Cancellation to be effective 11/6/2021.

Filed Date: 11/5/21.

Accession Number: 20211105-5135.

Comment Date: 5 p.m. ET 11/26/21.

Docket Numbers: ER22-349-000.

Applicants: New York Independent System Operator, Inc.

Description: § 205(d) Rate Filing: NYISO 205 Filing: Revisions to Data Reporting Requirements for Small Solar IPRs to be effective 1/5/2022.

Filed Date: 11/5/21.

Accession Number: 20211105-5140.

Comment Date: 5 p.m. ET 11/26/21.

Docket Numbers: ER22-350-000.

Applicants: PacifiCorp.

Description: § 205(d) Rate Filing: Idaho Falls Power JOOA to be effective 1/5/2022.

Filed Date: 11/5/21.

Accession Number: 20211105-5154.

Comment Date: 5 p.m. ET 11/26/21.

Docket Numbers: ER22-351-000.

Applicants: PSEG Energy Resources & Trade LLC.

Description: § 205(d) Rate Filing: PSEG ER&T Reactive Tariff Rates for Reactive Service to be effective 1/7/2022.

Filed Date: 11/5/21.

Accession Number: 20211105-5155.

Comment Date: 5 p.m. ET 11/26/21.

Docket Numbers: ER22-352-000.

Applicants: Performance Materials NA, Inc.

Description: Tariff Amendment: Notice of Cancellation of Market-Based Rate Tariff to be effective 11/8/2021.

Filed Date: 11/5/21.

Accession Number: 20211105-5159.

Comment Date: 5 p.m. ET 11/26/21.

Docket Numbers: ER22-353-000.

Applicants: Indra Power Business MI, LLC.

Description: Baseline eTariff Filing: Tariffs and Agreements to be effective 1/5/2022.

Filed Date: 11/5/21.

Accession Number: 20211105-5176.

Comment Date: 5 p.m. ET 11/26/21.

Docket Numbers: ER22-354-000.

Applicants: Duke Energy Carolinas, LLC.

Description: § 205(d) Rate Filing: DEC-WCU Revised NITSA SA No. 422 to be effective 1/1/2022.

Filed Date: 11/5/21.

Accession Number: 20211105-5194.

Comment Date: 5 p.m. ET 11/26/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 5, 2021.
Kimberly D. Bose,
Secretary.

[FR Doc. 2021-24660 Filed 11-10-21; 8:45 am]

BILLING CODE 6717-01-P